OFFICE OF PERSONNEL MANAGEMENT

Submission for Review: 3206-0212, Rollover Election (RI 38-117), Rollover Information (RI 38-118), and Special Tax Notice Regarding Rollovers (RI 37-22)

AGENCY: U.S. Office of Personnel Management.

ACTION: 60-Day notice and request for comments.

SUMMARY: Office of Personnel Management (OPM), Retirement Services offers the general public and other federal agencies the opportunity to comment on a revised information collection request (ICR), Rollover Election (RI 38-117), Rollover Information (RI 38-118), and Special Tax Notice Regarding Rollovers.

DATES: Comments are encouraged and will be accepted until June 2, 2025.

ADDRESSES: You may submit comments by the following method:

• Federal Rulemaking Portal: http://www.regulations.gov. Follow the instructions for submitting comments.

All submissions received must include the agency name and docket number for this document. The general policy for comments and other submissions from members of the public is to make these submissions available for public viewing at http://www.regulations.gov as they are received without change, including any personal identifiers or contact information.

FOR FURTHER INFORMATION CONTACT: A copy of this ICR with applicable supporting documentation may be obtained by contacting the Retirement Services Publications Team, Office of Personnel Management, 1900 E Street NW, Room 3316-L, Washington, DC 20415, Attention: Cyrus S. Benson, or sent by email to RSPublicationsTeam@opm.gov or faxed to (202) 606-0910 or reached via telephone at (202) 936-0401.

SUPPLEMENTARY INFORMATION: The Internal Revenue Code allows the recipient of certain types of distributions from OPM to elect how the payee prefers to receive the funds with varying tax implications. RI 38-117, Rollover Election, is used to collect information from a payee so that OPM can make payment in accordance with the wishes of the payee. RI 38-118, Rollover Information, explains the election. RI 37-22, Special Tax Notice Regarding Rollovers, provides more detailed information.

The Office of Personnel Management is particularly interested in comments addressing the following issues: (1) Whether this collection is necessary to the proper functions of OPM; (2) whether this information will be processed and used in a timely manner; (3) the accuracy of the burden estimates; (4) ways in which OPM might enhance the quality, utility, and clarity of the information to be collected; and (5) ways in which OPM might minimize the burden of this collection on the respondents, including through the use of information technology.

Analysis

Agency: Office of Personnel Management, Retirement Services.

Title: Rollover Election, Rollover Information, and Special Tax Notice Regarding Rollover.

OMB Number: 3206-0212.

Frequency: On occasion.

Affected Public: Individuals or Households.

Number of Respondents: 1,500.

Estimated Time per Respondent: 40 minutes.

Total Burden Hours: 1,000.

U.S. Office of Personnel Management.
Alexys Stanley,
Federal Register Liaison.

[FR Doc. 2025-05690 Filed 4-2-25; 8:45 am]

BILLING CODE 6325-38-P